DEPARTMENT OF ENERGY

Federal Energy Regulatory Commission

Sunshine Act Meeting

November 10, 2005.

The following notice of meeting is published pursuant to section 3(a) of the government in the Sunshine Act (Pub. L. 94-409), 5 U.S.C. 552b:

Agency Holding Meeting: Federal Energy Regulatory Commission.

Date and Time: November 17, 2005; 10 a.m.

Place: Room 2C, 888 First Street NE., Washington, DC 20426.

Status: Open.

Matters to be Considered: Agenda.

*Note—Items listed on the agenda may be deleted without further notice.

Contact person for more Information: Magalie R. Salas, Secretary, Telephone (202) 502-8400. For a recorded listing item stricken from or added to the meeting, call (202) 502-8627.

This is a list of matters to be considered by the Commission. It does not include a listing of all papers relevant to the items on the agenda; however, all public documents may be examined in the Public Reference Room.

898TH—Meeting

Regular Meeting
[November 17, 2005, 10 a.m.]
Item No. | Docket No. | Company
Administrative Agenda
A-1 | AD02-7-000 | Customer Matters, Reliability, Security and Market Operations.
A-2 | AD02-1-000 | Agency Administrative Matters.
Markets, Tariffs, and Rates—Electric
E-1 | RM05-35-000 | Standard of Review for Modifications to Jurisdictional Agreements.
E-2 | RM06-4-000 | Regulations Providing Incentive-Based Rate Treatments for the Transmission of Electric Energy in Interstate Commerce by Public Utilities.
E-3 | Omitted
E-4 | ER00-1969-020 | New York Independent System Operator, Inc.
| EL00-57-004 | Niagara Mohawk Power Corporation v. New York Independent System Operator, Inc.
| EL00-60-004 | Orion Power New York GP, Inc. v. New York Independent System Operator, Inc.
| EL00-63-004 | New York State Electric & Gas Corporation v. New York Independent System Operator, Inc.
| EL00-64-004 | Rochester Gas and Electric Corporation v. New York Independent System Operator, Inc.
E-5 | EL05-145-000 | District of Columbia Public Service Commission.
E-6 | ER05-1501-000 | California Independent System Operator Corporation.
E-7 | ER05-1502-000 | California Independent System Operator Corporation.
E-8 | ER05-1511-000 | Noble Thumb Windpark I, LLC.
E-9 | ER05-1366-000 | Cincinnati Gas & Electric Company.
| ER05-1367-000 | PSI Energy, Inc.
| ER05-1368-000 | Union Light Heat & Power Company.
| ER05-1369-000 | Cinergy Marketing & Trading, L.P.
| ER05-1369-001
| ER05-1370-000 | Brownsville Power I. LLC.
| ER05-1370-001 | Caledonia Power I. LLC.
| ER05-1372-000 | CinCap IV, LLC.
| ER05-1373-000 | CinCap V, LLC.
| ER05-1374-000 | Cinergy Capital & Trading, Inc.
| ER05-1375-000 | Cinergy Power Investments, Inc.
| ER05-1376-000 | St. Paul Cogeneration, LLC.
E-10 | ER06-27-000 | Midwest Independent Transmission System Operator.
| ER04-691-063
| EL04-104-060 | Public Utilities With Grandfathered Agreements.
E-11 | ER05-531-003 | ISO New England, Inc. and New England Power Pool.
E-12 | ER03-171-002 | Enertgy Mississippi, Inc.
| ER03-171-003
| ER03-171-004
| ER03-171-005
E-13 | ER00-3562-003 | Calpine Energy Services, L.P.
| ER03-341-002 | Calpine PowerAmerica-OR, LLC.
| ER03-342-002 | Calpine PowerAmerica-CA, LLC.
| ER03-838-003 | Power Contract Financing, LLC.
| ER04-1081-001 | PCF2, LLC.
| ER04-1080-001 | Calpine Energy Management, L.P.
| ER03-209-002 | CES Marketing V, L.P.
| ER03-36-004 | Calpine Northbrook Energy Marketing, LLC.
| ER99-2858-008 | MEP Pleasant Hill, LLC.
| ER05-48-001 | Calpine Bethpage 3, LLC.
| ER05-1266-001 | Ontelaunee Power Operating Company, LLC.
| ER05-817-001 | CES Marketing, VII, LLC.
| ER05-818-001 | CES Marketing VIII, LLC.
| ER05-819-001 | CES Marketing IX, LLC.
| ER05-820-001 | CES Marketing X, LLC.
| ER02-1319-004 | Zion Energy, LLC.
| ER04-831-002 | Calpine Newark, LLC.
| ER04-832-002 | Calpine Parlin, LLC.
| ER00-1115-003 | Calpine Construction Finance Company, L.P.
| ER03-446-002 | Calpine Philadelphia Energy, Inc.
| ER02-1959-003 | CPN Bethpage 3rd Turbine, Inc.
| ER04-1099-001 | Bethpage Energy Center 3, LLC.
| ER04-1100-001 | TBG Cogen Partners.
| ER01-2688-008 | Gilroy Energy Center, LLC.
| ER02-2227-004 | Creed Energy Center, LLC.
| ER02-600-006 | Delta Energy Center, LLC.
| ER02-2229-003 | Goose Haven Energy Center, LLC.
| ER03-24-003 | Los Esteros Critical Energy Facility, LLC.
| ER05-67-001 | Metcalf Energy Center, LLC.
| ER05-68-001 | Pastoria Energy Facility LLC.
| ER99-1983-003 | Geysers Power Company, LLC.
| ER03-290-002 | Calpine California Equipment Finance Company, LLC.
E-14 | Omitted
E-15 | ER99-2342-004 | Tampa Electric Company.
| ER99-2342-005
| ER99-2342-007
| ER01-931-008 | Panda Gila River, L.P.
| ER01-931-009
| ER01-931-011
| ER01-930-008 | Union Power Partners, L.P.
| 898TH—Meeting
| ER01-930-009
| ER01-930-011
| ER96-1563-021 | TECO EnergySource, Inc.
| ER96-1563-022
| ER96-1563-024
| ER99-415-007 | Commonwealth Chesapeake Company, LLC.
| ER99-415-008
| ER99-415-010
| ER02-510-004 | TPS Dell, LLC.
| ER02-510-005
| ER02-510-007
| ER02-507-004 | TPS McAdams, LLC.
| ER02-507-005
| ER02-507-007
| ER02-1000-005 | TECO-PANDA Generating Company, L.P.
| ER02-1000-006
| ER02-1000-008
| EL05-68-000 | Tampa Electric Company Panda Gilda, L.P., Union Power Partners, L.P., TECO EnergySource, Inc., and Commonwealth Chesapeake Company, LLC.
E-16 | EL05-38-003 | Okalahoma Municipal Power Authority v. American Electric Power Service Corporation.
E-17 | ER05-287-001 | Granite Ridge Energy, LLC.
| ER00-1147-002
E-18 | ER05-17-005 | Trans-Elect NTD Path 15, LLC.
E-19 | ER02-1398-002 | KeySpan-Ravenswood, LLC.
| ER02-1470-002 | KeySpan-Glenwood Energy Center, LLC.
| ER02-1573-002 | KeySpan-Port Jefferson Energy Center, LLC.
E-20 | Omitted
E-21 | EC04-121-000 | American Electric Power Service Corporation AEP Texas Central Company.
E-22 | EL06-16-000 | Investigation of Terms and Conditions of Public Utility Market-Based Rate Authorizations.
E-23 | PL06-4-000 | Informal Staff Advice on Regulatory Requirements.
E-24 | EL04-90-002 | Nevada Power Company.
E-25 | EL01-106-001 | Old Dominion Electric Cooperative v. PJM Interconnection, LLC.
E-26 | RM02-12-001 | Standardization of Small Generator Interconnection Agreements and Procedures.
E-27 | EL01-19-004 | H.Q. Energy Services (U.S.), Inc. v. New York.
| EL01-19-005 | Independent System Operator, Inc.
| EL01-19-006
| EL02-16-004 | PSEG Energy Resources & Trade LLC v. New York.
| EL02-16-005 | Independent System Operator, Inc.
| EL02-16-006
E-28 | Omitted
E-29 | Omitted
Markets, Tariffs, and Rates—Miscellaneous
M-1 | Omitted
Markets, Tariffs, and Rates—Gas
G-1 | RP00-107-003 | Williston Basin Interstate Pipeline Company.
| RP00-107-004
G-2 | RM05-2-001 | Policy for Selective Discounting by Natural Gas Pipelines.
G-3 | RP04-267-001 | Transcontinental Gas Pipe Line Corporation.
G-4 | OR05-11-000 | Continental Resources, Inc. v. Bridger Pipeline, LLC.
G-5 | RM06-5-000 | Amendments to Codes of Conduct for Unbundled Sales Service and for Persons Holding Blanket Marketing Certificates.
G-6 | OR92-8-024 | SFPP, L.P.
| OR93-5-015
| OR94-3-014
| OR94-4-016
| OR95-5-013 | Mobil Oil Corporation v. SFPP, L.P.
| OR95-34-012 | Tosco Corporation v. SFPP, L.P.
| OR96-2-010 | ARCO Products Co. a Division of Atlantic Richfield Company, Texaco Refining and Marketing Inc., and Mobil Oil Corporation v. SFPP, L.P.
| OR96-2-011
| OR96-10-007
| OR96-10-009
| OR98-1-009
| OR98-1-011
| OR00-4-002
| OR00-4-004
| OR96-2-003 | Ultramar Diamond Shamrock Corporation and Ultramar, Inc. v. SFPP, L.P.
| OR96-2-010
| OR96-10-008
| OR96-10-009
| OR96-17-004
| OR96-17-006
| OR97-2-004
| OR97-2-005
| OR98-2-005
| OR98-2-007
| OR00-8-005
| OR00-8-007
| OR98-13-005 | Tosco Corporation v. SFPP, L.P.
| OR98-13-007
| OR00-9-005
| OR00-9-007
| OR00-7-005 | Navajo Refining Corporation v. SFPP, L.P.
| OR00-7-006
| OR00-10-005 | Refinery Holding Company.
| OR00-10-006
| IS98-1-001 | SFPP, L.P.
| IS98-1-002
| IS04-323-002
Energy Projects—Hydro
H-1 | P-2042-030 | Public Utility District No. 1 of Pend Oreille County.
H-2 | P-2205-018 | Central Vermont Public Service Corporation.
H-3 | P-2210-123 | Appalachian Power Company.
Energy Projects—Certificates
C-1 | EM06-5-000 | Expediting Infrastructure Construction to Speed Hurricane Recovery.
C-2 | CP05-388-000 | Southern Natural Gas Company.
C-3 | CP05-40-001 | Rendezvous Gas Services, LLC.
| CP05-41-001
C-4 | RP04-215-002 | Tennessee Gas Pipeline Company v. Columbia Gulf Transmission Company.
C-5 | PL06-2-000 | Coordinated Processing of NGA Section 3 and 7 Proceedings.

Magalie R. Salas,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 05-22835 Filed 11-14-05; 4:05 pm]

BILLING CODE 6717-01-U